DEPARTMENT OF HEALTH AND HUMAN SERVICES

Food and Drug Administration

[Docket No. FDA-2020-D-1301]

Q3C(R8) Recommendations for the Permitted Daily Exposures for Three Solvents—2-Methyltetrahydrofuran, Cyclopentyl Methyl Ether, and Tert-Butyl Alcohol—According to the Maintenance Procedures for the Guidance Q3C Impurities: Residual Solvents; International Council for Harmonisation; Draft Guidance for Industry; Availability

Correction

In notice document 2020-11280, appearing on pages 31785 through 31786 in the issue of Wednesday, May 27, 2020 make the following correction.

On page 31785, in the first column, on the last line, “July 26, 2024” should read “July 27, 2020”.

[FR Doc. C1-2020-11280 Filed 6-4-20; 8:45 am]

BILLING CODE 1300-01-D